DEPARTMENT OF HOUSING AND URBAN DEVELOPMENT

[Docket No. FR-4563-N-01]

Notice of Proposed Information Collection for Public Comments for Section 8 Management Assessment Program

AGENCY: Office of the Assistant Secretary for Public and Indian Housing, HUD.

ACTION: Notice.

SUMMARY: The proposed information collection requirement described below will be submitted to the Office of Management and budget (OMB) for review, as required by the Paperwork Reduction Act. The Department is soliciting public comments on the subject proposal.

DATES: Comments Due Date: April 3, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information: Title of Proposal: Section 8 Management Assessment Program, OMB Control Number: 2577-0215.

Description of the need for the information and proposed use: The information is necessary to rate and assess public housing agency (PHA) management capabilities and deficiencies in key program areas, to improve HUD oversight of the Section 8 tenant-based program and to help HUD target monitoring and assistance to PHA programs that pose the greatest risk.

Members of affected public: Public housing agencies.

Estimation of the total number of hours needed to prepare the information collection including number of respondents, frequency of response, and hours of response:

Information collection | Number of respondents | Responses per respondent | Total annual responses | Hours per response | Total hours | Regulatory reference
SEMAP Certification | 2,565 | 1 | 2,565 | 12 | 30,780 | 985.101
Corrective Action Plan | 260 | 1 | 260 | 10 | 2,600 | 985.107(c)
Report on Correction of SEMAP Deficiency | 670 | 1 | 670 | 2 | 1,340 | 985.106
Total annual burden |  |  |  |  | 34,720

Status of the proposed information collection: Revision and extension of a currently approved collection.

Authority: Section 3506 of the Paperwork Reduction Act of 1995, 44 U.S.C. Chapter 35, as amended.

Dated: January 27, 2000.
Deborah Vincent,
General Deputy Assistant Secretary for Public and Indian Housing.

BILLING CODE 4210-33-M

[FR Doc. 00-2315 Filed 2-2-00; 8:45 am]

BILLING CODE 4210-33-M